DEPARTMENT OF THE INTERIOR

National Park Service

[NPS-WASO-NRNHL-18873; PPWOCRADI0, PCU00RP14.R50000]

National Register of Historic Places; Notification of Pending Nominations and Related Actions

Nominations for the following properties being considered for listing or related actions in the National Register were received by the National Park Service before July 18, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 3, 2015. Before including your address, phone number, email address, or other personal identifying information in your comment, you should be aware that your entire comment—including your personal identifying information—may be made publicly available at any time. While you can ask us in your comment to withhold your personal identifying information from public review, we cannot guarantee that we will be able to do so.

Dated: July 21, 2015.
J. Paul Loether,
Chief, National Register of Historic Places/National Historic Landmarks Program.

MISSOURI

Jackson County

Interstate Bakeries Corporation Headquarters, 12 E. Armour Blvd., Kansas City, 15000553

St. Louis Independent City

Central Institute for the Deaf Building, 800 S. Euclid Ave., St. Louis (Independent City), 15000554

Dutchtown South Historic District, Bounded by S. Grand Blvd., Delor & Liberty Sts., Alabama, Virginia & Bingham Aves., St. Louis (Independent City), 15000555

NEW YORK

Monroe County

Chili—West Historic District, 15-17 Ardmore, 5-75 Appleton, 14-48 Darien, 22-56 Hancock, 41-146 Lozier & 20-99 Somerset Sts., 50-432 Chili Ave., Rochester, 15000556

Sibley—Elmdorf Historic District, 23-405 Aberdeen, 20-324 Aldine, 447-551 Genesee, 157-320 Melrose, 187-325 Roslyn & 2-242 Trafalgar Sts., Rochester, 15000557

NORTH CAROLINA

Guilford County

Pickett Cotton Mills, 1200 Redding Dr., High Point, 15000558

OHIO

Cuyahoga County

Villa San Bernardo Historic District, 1160 Broadway Ave., Bedford, 15000559

Woodland—Larchmere Commercial Historic District, 12019-13165 Larchmere, 2618 N. Moreland, Cleveland, 15000560

Franklin County

South High School, 345 E. Deshler Ave., Columbus, 15000561

Hamilton County

Bon Air Flats, (Apartment Buildings in Ohio Urban Centers, 1870-1970 MPS) 615 Maple Ave., Cincinnati, 15000562

Mohawk Place Historic District, 241-290 McMicken Ave., 2009-2024 Mohawk Pl., 218-256 Mohawk St., 2026 Central Pkwy., Cincinnati, 15000563

SOUTH DAKOTA

Hutchinson County

First National Bank, Freeman, 394 S. Main St., Freeman, 15000564

Jerauld County

Harmony Friends Church, 225th St. & 372nd Ave., Wessington Springs, 15000565

Minnehaha County

Terrace Park and Japanese Gardens, 1100 W. 4th St., Sioux Falls, 15000566

[FR Doc. 2015-20455 Filed 8-18-15; 8:45 am]

BILLING CODE 4312-51-P